Title 3—

The President

Presidential Determination No. 2002-08 of March 4, 2002

Determination Pursuant to Section 523 of the Foreign

Operations, Export Financing, and Related Programs Appropriations Act, 2002, (Public Law 107-115)

Memorandum for the Secretary of State

Pursuant to section 523 of the Foreign Operations, Export Financing, and Related Programs Appropriations Act, 2002, (Public Law 107-115), I hereby certify that withholding from international financial institutions and other international organizations and programs funds appropriated or otherwise made available pursuant to that Act is contrary to the national interest.

You are authorized and directed to publish this determination in the Federal Register.

B

THE WHITE HOUSE,

Washington, March 4, 2002.

[FR Doc. 02-5768

Filed 3-7-02; 8:45 am]

Billing code 4710-10-M